DEPARTMENT OF DEFENSE

Department of the Navy

Record of Decision for the U.S. Marine Corps East Coast Basing of the F-35B Aircraft

AGENCY: Department of the Navy, DoD.

ACTION: Record of decision.

SUMMARY: Pursuant to Section 102(2)(c) of the National Environmental Policy Act (NEPA) of 1969, 42 United States Code (U.S.C.) Section 4332(2)(c), the regulations of the Council on Environmental Quality (CEQ) for Implementing the Procedural Provisions of NEPA (40 Code of Federal Regulations [CFR] parts 1500-1508), the Department of the Navy (DoN) NEPA regulations (32 CFR part 775), and the Marine Corps Environmental Compliance and Protection Manual, which is Marine Corps Order P5090.2A with change 2 (MCO P5090.2A), the DoN announces its decision to base and operate 11 operational F-35B Joint Strike Fighter (JSF) squadrons (up to 16 aircraft per squadron, for a total of 176 aircraft) and one Pilot Training Center (PTC) (composed of two Fleet Replacement Squadrons [FRS]) (up to 20 aircraft per squadron, for a total of 40 aircraft) at two locations on the East Coast of the United States (U.S.). More specifically, the DoN has decided to implement Alternative 1, the Preferred Alternative, which includes basing three F-35B operational squadrons and the PTC at Marine Corps Air Station (MCAS) Beaufort in Beaufort, South Carolina, and eight operational squadrons at MCAS Cherry Point in Havelock, North Carolina. To support the basing action, the Marine Corps will: (1) Construct and/or renovate airfield facilities and infrastructure necessary to accommodate and maintain the F-35B squadrons; (2) change personnel to accommodate squadron staffing; and (3) conduct F-35B training operations to attain and maintain proficiency in the operational employment of the F-35B. The F-35B aircraft will replace 84 legacy Marine Corps F/A-18A/B/C/D Hornet and 68 AV-8B Harrier aircraft in the Second Marine Air Wing (2d MAW) and the 4th MAW. All practical means to avoid or minimize environmental impacts resulting from implementation of the Preferred Alternative have been adopted.

SUPPLEMENTARY INFORMATION: The complete text of the Record of Decision is available for public viewing on the project Web site at http://www.usmcjsfeast.com along with copies of the Final Environmental Impact Statement (EIS). For further information, contact the JSF East Coast EIS Project Manager, Environmental Planning & Conservation Division (Attn: Linda Blount); Naval Facilities Engineering Command Mid-Atlantic, Code EV21; 9742 Maryland Avenue, Z-144, 1st Floor; Norfolk, VA 23511; 757-341-0491.

Dated: December 9, 2010.
D. J. Werner,
Lieutenant Commander, Office of the Judge Advocate General, U.S. Navy, Federal Register Liaison Officer.

[FR Doc. 2010-31469 Filed 12-14-10; 8:45 am]

BILLING CODE 3810-FF-P